DEPARTMENT OF DEFENSE

Department of the Navy

Notice of Public Meetings for the Draft Supplemental Environmental Impact Statement/Overseas Environmental Impact Statement for Atlantic Fleet Training and Testing (ID# SEIS-007-17-USN-1723491961)

AGENCY: Department of the Navy (DoN), Department of Defense (DoD).

ACTION: Notice.

SUMMARY: Pursuant to the National Environmental Policy Act- (NEPA) of 1969, as implemented by the Council on Environmental Quality regulations, and Presidential Executive Order 12114, the Department of the Navy (DoN), as the lead agency, and U.S. Coast Guard (Coast Guard) have prepared and filed with the U.S. Environmental Protection Agency a Draft Supplemental Environmental Impact Statement (EIS)/Overseas Environmental Impact Statement (OEIS) that evaluates the reasonably foreseeable effects on the human environment of Navy, Marine Corps, and Coast Guard training and testing activities conducted within the Atlantic Fleet Training and Testing (AFTT) Study Area.

DATES: The 60-day public comment period begins on September 20, 2024, and ends November 21, 2024. The comment period includes an additional 15 calendar days (from the required 45 days) to allow the public more time to review and comment. The public can submit comments during the Draft EIS/OEIS public review and comment period at one of the in-person public meetings, online at the project website, or by U.S. mail. All comments must be postmarked or received electronically by 11:59 p.m. Eastern Daylight Time (EDT) on November 21, 2024, for consideration in the Final Supplemental EIS/OEIS.

Three in-person public meetings in the form of an open-house will be held to inform the public about the proposed action and alternatives and about the opportunity to provide written and oral comments on the Draft Supplemental EIS/OEIS.

The in-person public meetings will be held as follows:

1. Tuesday, October 8, 2024, 5 p.m. to 7 p.m. EDT New Bedford Whaling Museum, 18 Johnny Cake Hill, New Bedford, MA 02740.

2. Thursday, October 10, 2024, 5 p.m. to 7 p.m. EDT Silver Spring Civic Building at Veterans Plaza, 1 Veterans Pl, Silver Spring, MD 20910.

3. Wednesday, October 16, 2024, 5 p.m. to 7 p.m. (Central Daylight Time (CDT)) New Orleans Marriott Metairie at Lakeway, 3838 N Causeway Blvd., Metairie, LA 70002.

Two virtual public meetings in the form of a webinar and question and answer session will be held for the public to learn about the proposed action and alternatives. The virtual public meetings will be held as follows:

1. Tuesday, October 22, 2024, 6 p.m. to 7 p.m. EDT.

2. Thursday, October 24, 2024, 2 p.m. to 3 p.m. EDT.

Registration for the virtual public meetings is available at the project website www.nepa.navy.mil/aftteis/. Recordings of the virtual public meetings will be posted to the project website at www.nepa.navy.mil/aftteis/ for the public to view following their completion.

ADDRESSES: Comments on the Draft Supplemental EIS/OEIS may be provided at the in-person public meetings, submitted electronically through the project website: www.nepa.navy.mil/aftteis/, or by mail to: Naval Facilities Engineering Systems Command Atlantic; Attention: Code EV22SG (AFTT EIS Project Managers); 6506 Hampton Boulevard, Norfolk, VA 23508-1278.

FOR FURTHER INFORMATION CONTACT: U.S. Fleet Forces Command, 1562 Mitscher Avenue Suite 250, Norfolk, VA 23551-2487, Attention: Mr. Theodore Brown, Installations and Environment Public Affairs Officer, 757-836-4427, theodore.c.brown4.civ@us.navy.mil, or visit the project website www.nepa.navy.mil/aftteis/.

SUPPLEMENTARY INFORMATION: DoN and Coast Guard's Proposed Action is to conduct military readiness training activities, and research, development, testing, and evaluation activities in the AFTT Study Area. These military readiness activities include the use of active sonar and explosives within existing range complexes and testing ranges and additional areas located in the Atlantic Ocean along the eastern coast of North America, in portions of the Caribbean Sea, the Gulf of Mexico, at Navy pierside locations and port transit channels, near civilian ports, and in bays, harbors, and inland waterways (e.g., the lower Chesapeake Bay). These military readiness activities are generally consistent with those analyzed in the AFTT EIS/OEIS completed in 2018 and are representative of training and testing that the Navy has been conducting in the AFTT Study Area for decades. Since the completion of the 2018 Final EIS/OEIS, the best available science has been updated, the regulatory environment has changed, the Study Area has changed, and what is known about our impacts has been refined. All of this has been incorporated into this Supplemental EIS/OEIS analysis. The National Oceanic and Atmospheric Administration's National Marine Fisheries Service (NMFS) is a Cooperating Agency for the Supplemental EIS/OEIS.

The purpose of the Proposed Action is to ensure the Action Proponents, including the Coast Guard, are able to organize, train, and equip service members and personnel to meet their respective national defense missions in accordance with their Congressionally mandated requirements.

Potential direct, indirect, cumulative, short-term, long-term, irreversible, and irretrievable impacts to the environment from two action alternatives and a No Action Alternative are evaluated in the Draft Supplemental EIS/OEIS. Resources evaluated in detail include air quality, sediments and water quality, vegetation, invertebrates, marine habitats, fish, marine mammals, sea turtles and other marine reptiles, and birds and bats.

Based on the results of the analysis, the DoN and Coast Guard have requested from NMFS a Letter of Authorization in accordance with the Marine Mammal Protection Act to authorize the incidental take of marine mammals that may result from the implementation of the activities analyzed in the AFTT Draft Supplemental EIS/OEIS. In accordance with Section 7 of the Endangered Species Act, DoN and Coast Guard are consulting with NMFS and U.S. Fish and Wildlife Service for potential impacts to federally listed species. DoN and Coast Guard will complete all required consultations and comply with all applicable laws and regulations.

The Draft Supplemental EIS/OEIS addresses mitigation measures designed to help reduce or avoid potential impacts to marine resources, including new mitigation measures that include expanded location-specific mitigations and updates to activity-based mitigation measures. In addition, the Draft Supplemental EIS/OEIS addresses marine species monitoring efforts designed to track compliance with authorizations and to investigate the effectiveness of mitigation measures implemented as part of the Proposed Action. The proposed mitigation measures would be implemented under either action alternative to maximize the mitigation benefits to the environment.

Mitigation measures are being coordinated through the consultation and permitting processes. DoN and Coast Guard will also consider public comments on proposed mitigation measures described in this Draft Supplemental EIS/OEIS.

Comments submitted during the public comment period at the in-person public meetings, electronically via the project website, or mailed to the address provided in the ADDRESSES section will become part of the public record. Substantive comments will be considered in the development of the Final Supplemental EIS/OEIS.

Notice of the availability of the Draft Supplemental EIS/OEIS was distributed to federal, state, and local agencies, elected officials, and other interested individuals and organizations. Copies of the Draft Supplemental EIS/OEIS are available for public review at the following libraries:

1. Brigadier General Charles E. McGee Library, 900 Wayne Avenue, Silver Spring, MD 20910.

2. Broward County Main Library, 100 South Andrews Avenue, Fort Lauderdale, FL 33301.

3. Camden County Public Library, 1410 GA-40, Kingsland, GA 31548.

4. Corpus Christi La Retama Central Library, 805 Comanche Street, Corpus Christi, TX 78401.

5. East Bank Regional Library, 4747 West Napoleon Avenue, Metairie, LA 70001.

6. New Bedford Free Public Library Casa de Saudade Branch, 58 Crapo Street #1, New Bedford, MA 02740.

7. Onslow County Public Library, 58 East Doris Avenue, Jacksonville, NC 28540.

8. Portland Public Library, 5 Monument Square, Portland, ME 04101.

9. Providence Public Library, 150 Empire Street, Providence, RI 02903.

10. West Florida Public Library, Southwest Branch, 12248 Gulf Beach Highway, Pensacola, FL 32507.

Copies of the AFTT Draft Supplemental EIS/OEIS are available for electronic viewing at www.nepa.navy.mil/aftteis/. A paper copy of the Executive Summary and a single compact disc (CD) of the Draft Supplemental EIS/OEIS will be made available upon written request by contacting: Naval Facilities Engineering Systems Command Atlantic, Attention: Code EV22SG (AFTT EIS Project Managers), 6506 Hampton Boulevard, Norfolk, VA 23508-1278.

Dated: September 12, 2024.
A.J. Gioiello,
Lieutenant Commander, Judge Advocate General's Corps, U.S. Navy, Federal Register Liaison Officer.

[FR Doc. 2024-21123 Filed 9-19-24; 8:45 am]

BILLING CODE 3810-FF-P